DEPARTMENT OF TRANSPORTATION

Federal Aviation Administration

[Docket No. FAA-2025-0653]

Agency Information Collection Activities: Requests for Comments; Clearance of a Renewed Approval of Information Collection: Infrastructure Investment and Jobs Act (IIJA) Competitive Grant Project Information

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 23, 2025. The collection involves soliciting project information for the Infrastructure Investment and Jobs Act (IIJA) Airport Terminal, Tower and Airport Infrastructure Grant Funding Reallocation Programs. The information to be collected will be used to determine projects to be awarded IIJA competitive grants.

DATES: Written comments should be submitted by September 12, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jesse Carriger, Office of Airport Planning and Programming, by email at: iijaairports@faa.gov; phone: (202) 674-2806.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0806.

Title: Infrastructure Investment and Jobs Act (IIJA) Competitive Grant Project Information.

Form Numbers: 5100-144.

Type of Review: Renewal of an information collection.

Background: The Federal Register Notice with a 60-day comment period soliciting comments on the following collection of information was published on May 23, 2025 (90 FR 22151). The FAA uses this collection to solicit the information necessary to evaluate and select airport projects for funding under the Infrastructure Investment and Jobs Act (IIJA), signed on November 15, 2021. The IIJA provides about $1,020,000,000 annually, for five years, to award competitive grants for airport terminal and tower development. Of this amount, about $1,000,000,000 annually, for five years, is for the Airport Terminal Program; $20,000,000 annually, for five years, is for an Airport-owned Contract Tower Program. Additionally, the IIJA directs funds that are unobligated at the end of the fourth fiscal year after first made available under the Airport Infrastructure Grant (AIG) program to be converted to a new competitive funding program for the fifth and final fiscal year of availability. Of the amounts converted, the first $100,000,000 is set aside to augment the IIJA's Airport-owned Contract Tower Program grant program. Funds exceeding $100,000,000 are then awarded through the new competitive grant program, called the Airport Infrastructure Grant Funding Reallocation Program (AFR). The information collected is based on grant considerations and priorities outlined in the IIJA. Project consideration areas include increasing terminal capacity and passenger access; replacing aging infrastructure; achieving compliance with the Americans with Disabilities Act (42 U.S.C. 12101, et seq.); improving airport access for historically disadvantaged populations; improving energy efficiency; improving airfield safety through terminal relocation; encouraging actual and potential competition; impact on the National Airspace System; reducing emissions; reducing noise impact to the surrounding community; reducing dependence on the electrical grid; and providing general benefits to the surrounding community. The information FAA is collecting will include general airport information, a project overview, and narratives on project consideration areas as outlined in the IIJA. Airport owners and managers who want to pursue funding and obtain benefits from the IIJA Programs will submit information via FAA Form 5100-144 to compete for grants. Approximately 3,075 airports are eligible to compete for this funding, but, based on previous-year submissions, the FAA expects only a small subset of eligible airports to submit project information through this competitive grant process.

Respondents: Approximately 655 airports.

Frequency: Annually.

Estimated Average Burden per Response: 6 hours.

Estimated Total Annual Burden: 3,930 hours for all respondents.

Issued in Washington, DC, on August 11, 2025.
Jesse Carriger,
Acting Director, Office of Airport Planning and Programming.

[FR Doc. 2025-15333 Filed 8-12-25; 8:45 am]

BILLING CODE 4910-13-P